FEDERAL MARITIME COMMISSION

Sunshine Act Meetings

AGENCY: Federal Maritime Commission.

TIME AND DATE: September 25, 2014; 10 a.m.

PLACE: 800 N. Capitol Street NW., First Floor Hearing Room, Washington, DC.

STATUS: The meeting will be held in Open Session.

MATTERS TO BE CONSIDERED:

Open Session

1. Briefing by Chairman Cordero on Public Forum held September 15th at the Port of Los Angeles Concerning Causes and Implications of Congestion at U.S. Ports

2. Briefing on Publication of Ocean Transportation Intermediary Licensing Information on Commission's Web site

3. Docket No. 13-05, Amendments to Regulations Governing Ocean Transportation Intermediary Licensing and Financial Responsibility Requirements, and General Duties

CONTACT PERSON FOR MORE INFORMATION: Karen V. Gregory, Secretary (202) 523 5725.

Karen V. Gregory,
Secretary.

[FR Doc. 2014-22565 Filed 9-18-14; 4:15 pm]

BILLING CODE 6730-01-P